DEPARTMENT OF ENERGY

Federal Energy Regulatory Commission

[Docket No. CP17-58-000]

Transcontinental Gas Pipe Line Company, LLC; Notice of Schedule for Environmental Review of the St. James Supply Project

On February 6, 2017, Transcontinental Gas Pipe Line Company, LLC (Transco) filed an application in Docket No. CP17-58-000 requesting a Certificate of Public Convenience and Necessity pursuant to Section 7(c) of the Natural Gas Act to construct and operate certain natural gas pipeline facilities. The proposed project is known as the St. James Supply Project (Project), and would deliver 161,500 dekatherms per day of firm transportation capacity from Transco's existing mainline Compressor Station 65 in St. Helena Parish, Louisiana to the planned Yuhuang Chemical Plant in St. James Parish, Louisiana.

On February 21, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—July 24, 2017.

90-day Federal Authorization Decision Deadline—October 22, 2017.

If a schedule change becomes necessary, additional notice will be provided so that the relevant agencies are kept informed of the Project's progress.

Project Description

The St. James Supply Project would consist of 0.7 mile of 20-inch-diameter pipeline, one new pig receiver site,¹ a new interconnection to the planned Yuhuang Chemical Plant site, one new valve and piping to tie the Old River Road M&R Station into the existing Southeast Lateral Pipeline, and piping and valve modifications at existing Transco Compressor Stations 63 and 65.

¹ A pig is a tool that the pipeline company inserts into and pushes through the pipeline for cleaning the pipeline, conducting internal inspections, or other purposes.

Background

On March 17, 2017, the Commission issued a Notice of Intent to Prepare an Environmental Assessment for the Proposed St. James Supply Project and Request for Comments on Environmental Issues (NOI). The NOI was sent to affected landowners; federal, state, and local government agencies; elected officials; environmental and public interest groups; Native American tribes; other interested parties; and local libraries. In response to the NOI, the Commission received letters from the Seminole Nation of Oklahoma, the Quapaw Tribe of Oklahoma, and the Choctaw Nation of Oklahoma. No concerns about historic resources were raised.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP17-58), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: June 12, 2017.
Kimberly D. Bose,
Secretary.

[FR Doc. 2017-12661 Filed 6-16-17; 8:45 am]

BILLING CODE 6717-01-P